DEPARTMENT OF COMMERCE

International Trade Administration

[C-580-869]

Large Residential Washers From the Republic of Korea: Final Results of Countervailing Duty Administrative Review; 2012-2013

AGENCY: Enforcement and Compliance, International Trade Administration, Department of Commerce.

SUMMARY: On March 11, 2015, the Department published the preliminary results of the administrative review of the countervailing duty order on large residential washers from Korea.¹ The review covers two producers/exporters of the subject merchandise, Samsung Electronics Co., Ltd. (Samsung) and Daewoo Electronics Corporation (Daewoo). The period of review (POR) is June 5, 2012, through December 31, 2013. Based on an analysis of the comments received, the Department has not made changes to the subsidy rates calculated for Daewoo and Samsung in the Preliminary Results. The final subsidy rates are listed in the “Final Results of Administrative Review” section below.

¹ See Large Residential Washers From the Republic of Korea: Preliminary Results of the Countervailing Duty Administrative Review; 2012-2013, 80 FR 12803 and accompanying Preliminary Decision Memorandum (PDM) (March 11, 2015) (Preliminary Results).

DATES: Effective Date: September 15, 2015.

FOR FURTHER INFORMATION CONTACT: Toni Page AD/CVD Operations, Office VII, Enforcement and Compliance, U.S. Department of Commerce, 14th Street and Constitution Avenue NW., Washington, DC 20230; telephone: (202) 482-1398.

Scope of the Order

The products covered by the order are all large residential washers and certain subassemblies thereof from Korea. The products are currently classifiable under subheadings 8450.20.0040 and 8450.20.0080 of the Harmonized Tariff System of the United States (HTSUS). Products subject to this order may also enter under HTSUS subheadings 8450.11.0040, 8450.11.0080, 8450.90.2000, and 8450.90.6000. Although the HTSUS subheadings are provided for convenience and customs purposes, the written description of the merchandise subject to this scope is dispositive.²

² For a full description of the scope, see the Department Memorandum, “Issues and Decision Memorandum for the Final Results of the Countervailing Duty Administrative Review: Large Residential Washers from the Republic of Korea” (Issues and Decision Memorandum) (September 8, 2015).

Analysis of Comments Received

The issues raised by Whirlpool Corporation (Petitioner), the only interested party to submit comments, are addressed in the Issues and Decision Memorandum.³ The issues are identified in the Appendix to this notice. The Issues and Decision Memorandum is a public document and is on file electronically via Enforcement and Compliance's Antidumping and Countervailing Duty Centralized Electronic Service System (ACCESS). ACCESS is available to registered users at http://access.trade.gov and is available to all parties in the Central Records Unit, room B8024 of the main Department of Commerce building. In addition, a complete version of the Issues and Decision Memorandum can be accessed directly at http://enforcement.trade.gov/frn/. The signed and electronic versions of the memorandum are identical in content.

³ Id.

Methodology

The Department is conducting this countervailing duty review in accordance with section 751(a)(1)(A) of the Tariff Act of 1930, as amended (the Act). For each of the subsidy programs found countervailable, we determine that there is a subsidy, i.e., a financial contribution by an “authority” that confers a benefit to the recipient, and that the subsidy is specific.⁴ Additionally, for certain subsidy programs, we are relying on the facts available, with adverse inferences, pursuant to sections 776(a) and (b) of the Act. For further information, see the Issues and Decision Memorandum.

⁴ See sections 771(5)(B) and (D) of the Act regarding financial contribution; section 771(5)(E) of the Act regarding benefit; and, section 771(5A) of the Act regarding specificity.

Final Results of Administrative Review

As a result of this review, we determine the countervailable subsidy rates during the POR for the mandatory respondents to be:

Company | Subsidy rate (percent)
Samsung Electronics Co., Ltd | 34.77
Daewoo Electronics Corporation | 81.91

Assessment and Cash Deposit Requirements

In accordance with 19 CFR 351.212(b)(2), the Department intends to issue appropriate instructions to U.S. Customs and Border Protection (CBP) 15 days after publication of the final results of this review. The Department will instruct CBP to liquidate shipments of subject merchandise produced and/or exported by Daewoo and Samsung, entered or withdrawn from warehouse, for consumption from June 5, 2012, through December 31, 2013.

Pursuant to section 751(a)(2)(C) of the Act, the Department also intends to instruct CBP to collect cash deposits of estimated CVDs, in the amounts shown above for each of the respective companies shown above, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

Administrative Protective Order

This notice also serves as a final reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

These final results are issued and published in accordance with sections 751(a)(1) and 777(i)(1) of the Act.

Dated: September 8, 2015.
Paul Piquado,
Assistant Secretary for Enforcement and Compliance.

APPENDIX I

Issues and Decision Memorandum

I. Summary

II. Background

III. Scope of the Order

IV. Use of Facts Otherwise Available and Adverse Inferences

V. Analysis of Programs

VI. Analysis of Comments

VII. Recommendation

[FR Doc. 2015-23163 Filed 9-14-15; 8:45 am]

BILLING CODE 3510-DS-P